DEPARTMENT OF THE INTERIOR

National Park Service

Environmental Statements: Notice of Intent

AGENCY: National Park Service, Interior.

ACTION: Notice of intent to prepare a General Management Plan and Environmental Impact Statement.

SUMMARY: Pursuant to section 102 (2)(C) of the National Environmental Policy Act of 1969, the National Park Service announces its intent to prepare a General Management Plan and Environmental Impact Statement (GMP/EIS) for the Hopewell Furnace National Historic Site, Elverson, Pennsylvania. The park comprises 848 acres, including the finest surviving example of a cold-blast charcoal fired furnace, and related structures, including 50 listed on the National Register of Historic Places. Prepared by planners in the NPS Northeast Region, with assistance from advisors and consultants, the GMP/EIS will propose a long-term approach to managing the Hopewell Furnace National Historic Site. Consistent with the site's mission, NPS policy, and other laws and regulations, alternatives will be developed to guide the management of the site over the next 15 to 20 years. The alternatives will incorporate various zoning and management prescriptions to ensure resource preservation and public enjoyment of the site. The environmental consequences that could result from implementing the various alternatives will be evaluated in the plan. Impact topics will include cultural and natural resources, visitor experience, park operations, the socioeconomic environment, impairment, and sustainability. The public will be invited to express concerns about the management of the site early in the process through public meetings and other media; and will have an opportunity to review and comment on a draft GMP/EIS. Following public review processes outlined under NEPA, the final plan will become official, authorizing implementation of a preferred alternative. The target date for the Record of Decision is October 28, 2005.

FOR FURTHER INFORMATION CONTACT: Superintendent, Hopewell Furnace National Historic Site, (610) 582-8773.

Dated: July 10, 2003.
William A. Sanders,
Superintendent, Hopewell Furnace National Historic Site.

[FR Doc. 03-21975 Filed 8-27-03; 8:45 am]

BILLING CODE 4312-JJ-P